DEPARTMENT OF COMMERCE

Foreign-Trade Zones Board

[B-86-2013]

Notification of Proposed Production Activity; Benteler Automotive Corporation (Automotive Suspension and Body Components); Duncan, South Carolina

Benteler Automotive Corporation (Benteler), operator of Subzone 38F, submitted a notification of proposed production activity for its facility located in Duncan, South Carolina. The notification conforming to the requirements of the regulations of the FTZ Board (15 CFR 400.22) was received on August 28, 2013.

The subzone currently has authority to produce automotive suspension components and subassemblies using certain foreign-status components. The current request would add bumper assemblies, body reinforcement assemblies, suspension parts (e.g., links, control arms), and sub-frames to the list of approved finished products and would also add foreign-status components to the scope of authority. Pursuant to 15 CFR 400.14(b), FTZ activity would be limited to the specific foreign-status materials and components and specific finished products described in the submitted notification (as described below) and subsequently authorized by the FTZ Board.

Production under FTZ procedures could exempt Benteler from customs duty payments on the foreign status materials and components used in export production. On its domestic sales, Benteler would be able to choose the duty rate during customs entry procedures that applies to bumper assemblies, body reinforcement assemblies, suspension parts, and sub-frames (2.5%) for the foreign status inputs noted below. Customs duties also could possibly be deferred or reduced on foreign status production equipment.

The components and materials sourced from abroad include: Metal stampings (crash cans, reinforcement plates, flange plates); bumper beams; toe hooks; cross member shells; side tubes; steel blanks; brackets; gussets; closing plates; castings of aluminum; flat-rolled steel; tapping plates; fasteners; hub-bearing assemblies; metal knuckle protective caps; control arms; stabilizer links; struts; wheel carriers; snap rings; drive flange hubs; bearings; backing plates; and, adjuster nuts/spacers/blocks (duty rate ranges from free to 5.8%).

Public comment is invited from interested parties. Submissions shall be addressed to the FTZ Board's Executive Secretary at the address below. The closing period for their receipt is November 4, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: September 13, 2013.
Andrew McGilvray,
Executive Secretary.

[FR Doc. 2013-23202 Filed 9-23-13; 8:45 am]

BILLING CODE 3510-DS-P